DEPARTMENT OF TRANSPORTATION

Federal Aviation Administration

14 CFR Part 71

[Docket No. FAA-2011-1406; Airspace Docket No. 11-AWA-5]

RIN 2120-AA66

Amendment of Class C Airspace; Springfield, MO; Lincoln, NE; Grand Rapids, MI

AGENCY: Federal Aviation Administration (FAA), DOT.

ACTION: Final rule; correction.

SUMMARY: This action corrects the Class C airspace designation for Gerald R. Ford International Airport, Grand Rapids, MI, published in the Federal Register of February 6, 2012, to include the city name.

DATES: Effective date 0901 UTC, April 5, 2012. The Director of the Federal Register approves this incorporation by reference action under 1 CFR part 51, subject to the annual revision of FAA Order 7400.9 and publication of conforming amendments.

FOR FURTHER INFORMATION CONTACT: Colby Abbott, Airspace, Regulations and ATC Procedures Group, Office of Airspace Services, Federal Aviation Administration, 800 Independence Avenue SW., Washington, DC 20591; telephone: (202) 267-8783.

SUPPLEMENTARY INFORMATION:

History

On February 6, 2012, the FAA published a final rule in the Federal Register amending the airport name and geographic coordinates of Gerald R. Ford International Airport, Grand Rapids, MI, to match the FAA's aeronautical database (77 FR 5691) Docket No. FAA-2011-1406. The Class C airspace designation was published without including the city name.

Final Rule Correction

Accordingly, pursuant to the authority delegated to me, the legal description for the Gerald R. Ford International Airport, Grand Rapids, MI, Class C airspace, as published in the Federal Register of February 6, 2012 (77 FR 5691) (FR Doc. 2012-2485), is corrected as follows:

On page 5692, column 3, lines 50 and 51, remove “AGL MI C Gerald R. Ford International Airport, MI”, and insert: “AGL MI C Grand Rapids, Gerald R. Ford International Airport, MI.”

On page 5692, column 3, lines 52 and 53, remove “Gerald R. Ford International Airport, Grand Rapids, MI”, and insert: “Grand Rapids, Gerald R. Ford International Airport, MI.”

Issued in Washington, DC, February 28, 2012.
Gary A. Norek,
Acting Manager, Airspace, Regulations, and ATC Procedures Group.

[FR Doc. 2012-5704 Filed 3-8-12; 8:45 am]

BILLING CODE 4910-13-P